DEPARTMENT OF JUSTICE

Notice of Lodging of Stipulation and Settlement Agreement Pursuant to the Resource Conservation and Recovery Act

In accordance with 28 CFR § 50.7, the Department of Justice gives notice that a proposed consent decree in United States and State of Indiana, et al. v. American Chemical Service, Inc. et al., No. 2:00CV430JM (N.D. Ind.), was lodged with the United States District Court for the Northern District of Indiana on July 12, 2000.

The United States and the State of Indiana brought the action pursuant to various federal and state statues, including Section 107 of the Comprehensive Environmental Response, Compensation and Liability Act, 42 U.S.C. 9607, to recover natural resource damages resulting from the release of hazardous substances at the American Chemical Service Superfund Site in Griffith, Lake County, Indiana (“Site”). The Complaint alleged that at relevant times the Defendants (or their successors) owned or operated the Site at the time of disposal of hazardous substances at the Site, or arranged for disposal or treatment or arranged with a transporter for transport for disposal or treatment of hazardous substances owned or possessed by that Defendant (or successor) at the Site. The Complaint alleges claims against 39 parties who either owned or operated the Site, or who arranged for treatment of disposal of hazardous substances at the Site.

Under the proposed Consent Decree, the Settling Defendants will pay $250,000 for the acquisition of certain real property proposed for restoration as a replacement for the injured natural resources at the Site, and $50,000 for natural resource restoration activities at the property to be acquired. In addition, the Settling Defendants will pay up to $30,000 toward the federal and state natural resource damage assessment costs, with the federal and state natural resource damage assessment costs, with the federal and state governments splitting that amount on a pro rata basis.

The Department of Justice will receive, for a period of thirty (30) days from the date of this publication, comments relating to the proposed settlement. Comments should be addressed to the Assistant Attorney General, Environment and Natural Resources Division, U.S. Department of Justice, P.O. Box 7611, Washington, DC 20044-7611, and should refer to DOJ No. 90-11-2-1094/4.

The proposed stipulation and settlement agreement may be examined at: (1) The U.S. Fish and Wildlife Service, 620 S. Walker, Bloomington, Indiana, (812) 334-4261; and (2) the Office of the United States Attorney for the Northern District of Indiana, 1001 Main St., Ste. A, Dyer, Indiana 46311-1234, (219) 322-8576.

A copy of the proposed consent decree may also be obtained by mail from the Department of Justice Consent Decree Library, P.O. Box 7611, Washington, DC 20044-7611. In requesting a copy, please refer to the reference case and DOJ Reference Number 90-11-2-1094/4, and enclose a check in the amount of $6.00 for the consent decree (24 pages at 25 cents per page reproduction costs), or $16.75 for the consent decree and its appendices (67 pages at 25 cents per page reproduction costs) made payable to the Consent Decree Library.

Joel M. Gross,
Chief, Environmental Enforcement Section, Environment and Natural Resources Division.

[FR Doc. 00-19383 Filed 7-31-00; 8:45 am]

BILLING CODE 4410-15-M